DEPARTMENT OF HOMELAND SECURITY

U.S. Citizenship and Immigration Services

Agency Information Collection Activities: Form G-28, and Form G-28I, Emergency Submission to the Office of Management and Budget (OMB); Comment Request

ACTION: 30-Day Notice of Information Collection Under Review: Form G-28, Notice of Entry of Appearance as Attorney or Accredited Representative, and Form G-28I, Notice of Entry of Appearance of Foreign Attorney.

The data collected on Forms G-28 and G-28I is used by the Department of Homeland Security (DHS) to determine eligibility of the individual to appear as a representative. Form G-28 is used by attorneys admitted to practice in the United States and accredited representatives of charitable organizations recognized by the Board of Immigration Appeals. Form G-28I will be used by attorneys admitted to the practice of law in countries other than the United States, and only with matters filed in DHS offices outside the geographical confines of the United States.

The Department of Homeland Security, U.S. Citizenship and Immigration Services (USCIS), has submitted the following emergency information collection, utilizing emergency review procedures, to the Office of Management and Budget (OMB) for review and clearance in accordance with the Paperwork Reduction Act of 1995 (Pub. L. 104-13, 44 U.S.C. 35). The purpose of this notice is to allow 30 days for public comments. Comments are encouraged and will be accepted for thirty days until September 8, 2008. This process is conducted in accordance with 5 CFR 1320.10.

Written comments and/or suggestions regarding the item(s) contained in this notice, especially regarding the estimated public burden and associated response time, should be directed to the Department of Homeland Security (DHS), and to the Office of Information and Regulatory Affairs, Office of Management and Budget (OMB), USCIS Desk Officer. Comments may be submitted to: USCIS, Chief, Regulatory Management Division, Clearance Office, 111 Massachusetts Avenue, Suite 3008, Washington, DC 20529. Comments may also be submitted to DHS via facsimile to 202-272-8352 or via e-mail at rfs.regs@dhs.gov, and to the OMB USCIS Desk Officer via facsimile at 202-395-6974 or via e-mail at oira_submission@omb.eop.gov.

When submitting comments by e-mail please make sure to add Form G-28 in the subject box. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This Information Collection

(1) Type of Information Collection: Emergency request for OMB approval.

(2) Title of the Form/Collection: Notice of Entry of Appearance as Attorney or Accredited Representative, and Notice of Entry of Appearance of Foreign Attorney.

(3) Agency form number, if any, and the applicable component of the Department of Homeland Security sponsoring the collection: Form G-28, and Form G-28I. U.S. Citizenship and Immigration Services.

(4) Affected public who will be asked or required to respond, as well as a brief abstract: Primary: Individuals or households. The data collected on Forms G-28 and G-28I are used by DHS to determine eligibility of the individual to appear as a representative.

(5) An estimate of the total number of respondents and the amount of time estimated for an average respondent to respond: 2,479,000 responses at 20 minutes (.333) per response.

(6) An estimate of the total public burden (in hours) associated with the collection: 825,507 annual burden hours.

If you have additional comments, suggestions, or need a copy of the proposed information collection instrument with instructions, or additional information, please visit the USCIS Web site at: http://www.regulations.gov/search/index.jsp.

If additional information is required contact: USCIS, Regulatory Management Division, 111 Massachusetts Avenue, Suite 3008, Washington, DC 20529, (202) 272-8377.

Dated: August 4, 2008.
Stephen Tarragon,
Management Analyst, Regulatory Management Division, U.S. Citizenship and Immigration Services, Department of Homeland Security.

[FR Doc. E8-18176 Filed 8-6-08; 8:45 am]

BILLING CODE 9111-97-P